DEPARTMENT OF ENERGY

Federal Energy Regulatory Commission

[Project No. 12611-004]

Verdant Power, LLC; Notice of Preliminary Permit Applications Accepted for Filing and Soliciting Comment, Motions To Intervene, and Competing Applications

December 9, 2008.

On December 1, 2008, Verdant Power, LLC filed an application, pursuant to section 4(f) of the Federal Power Act, proposing to study the feasibility of the Roosevelt Island Project, to be located on East River in New York County, New York.

The proposed Roosevelt Island Tidal Energy Project consists of: (1) A proposed 30 turbine array of the East Channel with an installed capacity of 1 megawatts, (2) a proposed 100 turbine array with an installed capacity of 4 megawatts the west channel, (3) a proposed transmission line, and (5) appurtenant facilities. The Verdant Power, LLC project using the Verdant turbines project, would have an average annual generation of 12 gigawatt-hours and be sold to a local utility.

Applicant Contact: Mr. William H. Taylor, Verdant Power, LLC, The Octogon, 888 Main Street, New York, NY 10044, phone (212) 888-8887.

FERC Contact: Robert Bell, (202) 502-6062.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-12611-004) in the docket number field to access the document. For assistance, call toll-free 1-866-208-3372.

Kimberly D. Bose,
Secretary.

[FR Doc. E8-29854 Filed 12-16-08; 8:45 am]

BILLING CODE 6717-01-P